DEPARTMENT OF TRANSPORTATION

Federal Railroad Administration

[Docket Number FRA-2014-0045]

Notice of Application for Approval of Discontinuance or Modification of a Railroad Signal System

In accordance with Part 235 of Title 49 Code of Federal Regulations (CFR) and 49 U.S.C. 20502(a), this document provides the public notice that by a document dated April 29, 2014, the Wisconsin Central Limited (WC) petitioned the Federal Railroad Administration (FRA) seeking approval for the discontinuance or modification of a signal system. FRA assigned the petition Docket Number FRA-2014-0045.

Applicant: Wisconsin Central Limited, Mr. Thomas L. Brasseur, Manager S&C, Engineering Department, Southern Region, 1625 Depot Street, Stevens Point, WI 54481.

WC, a subsidiary of Canadian National Railway (CN), seeks approval of the proposed discontinuance and removal of a traffic control system (TCS) between Milepost (MP) 1.7, (North Collingwood) and MP 1.0 (South Collingwood) on the Missabe Subdivision, Duluth, MN. The TCS will be removed between northward approach signals A8R, A6R, and A18R and the Collingwood northward absolute signals. All TCS listed will be changed to yard limits. Control Points (CP) North Collingwood, Collingwood, and South Collingwood will be reconfigured into one, CP Collingwood, by the elimination of existing controlled switches, the installation of a new controlled switch, and the removal of controlled signals that govern movements over track with no associated switches. New TCS limits will begin and end at CP Collingwood.

The reason for the proposed changes is that the northward signals and the associated track circuits for the approach to Collingwood present a safety hazard to employees as well as the motoring public on Interstate 35 (I-35). Part of this section is located on the ore docks over I-35, which results in no place of safety in which an employee can clear the tracks due to the drop-off on each side. If an employee were to slip and fall, the fall could potentially be onto I-35. Any material or equipment accidentally dropped could fall to I-35 striking vehicular traffic.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 17, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 27, 2014.
Robert C. Lauby.
Associate Administrator for Railroad Safety, Chief Safety Officer.

[FR Doc. 2014-12625 Filed 5-30-14; 8:45 am]

BILLING CODE 4910-06-P